DEPARTMENT OF HOMELAND SECURITY

Coast Guard

33 CFR Part 100

[Docket No. USCG-2024-0805]

Special Local Regulation; Poquoson Seafood Festival Workboat Races; Back River, Poquoson, VA

AGENCY: Coast Guard, DHS.

ACTION: Notification of enforcement of regulation.

SUMMARY: The Coast Guard will enforce a special local regulation for the Poquoson Seafood Festival Workboat Races on the Back River, VA, on September 15, 2024, to provide for the safety of life on navigable waterways during this event. Coast Guard regulations for marine events within the Fifth Coast Guard District identify the regulated area for this event in Poquoson, VA. During the enforcement period, the operator of any vessel in the regulated area must comply with directions from the Patrol Commander or local law enforcement vessel approved by the Captain of the Port (COTP).

DATES: The regulations in 33 CFR 100.501 will be enforced for the location identified for the Poquoson Seafood Festival Workboat Races in table 3 to paragraph (i)(3) to § 100.501 from 1 p.m. until 4 p.m. on September 15, 2024.

FOR FURTHER INFORMATION CONTACT: If you have questions about this notification of enforcement, call or email LCDR Justin Strassfield, Chief, Waterways Management Division, Sector Virginia, U.S. Coast Guard; telephone 757-668-5580; email Justin.Z.Strassfield@uscg.mil.

SUPPLEMENTARY INFORMATION: The Coast Guard will enforce the special local regulation in 33 CFR 100.501 for the Poquoson Seafood Festival Workboat Races from 1 p.m. to 4 p.m. on September 15, 2024. This action is being taken to provide for the safety of life on navigable waterways during this event. Our regulation for marine events within the Fifth Coast Guard District, § 100.501, specifies the location of the regulated area for the Poquoson Seafood Festival Workboat Races, which encompasses portions of the Back River. Although § 100.501 indicates the event will take place the last Sunday in September or the first or second Sunday in October, a footnote in the regulation indicates that the dates are subject to change and that notice of any change in dates will be provided in the Federal Register. During the enforcement period, the operator of any vessel in the regulated area must comply with directions from the Patrol Commander or from any local law enforcement vessel approved by the COTP.

In addition to this notification of enforcement in the Federal Register, the Coast Guard plans to provide notification of this enforcement period via the Local Notice to Mariners and Broadcast Notice to Mariners.

Dated: August 29, 2024.
Peggy M. Britton,
Captain, U.S. Coast Guard, Captain of the Port Virginia.

[FR Doc. 2024-20090 Filed 9-5-24; 8:45 am]

BILLING CODE 9110-04-P